DEPARTMENT OF HOMELAND SECURITY

Coast Guard

33 CFR Part 110

[CGD11-04-006]

RIN 1625-AA01

Anchorage Ground; Pacific Ocean at Santa Catalina Island, CA

AGENCY: Coast Guard, DHS.

ACTION: Notice of proposed rulemaking.

SUMMARY: The Coast Guard proposes to establish three anchorage areas outside Avalon Bay, Santa Catalina Island, California, for large passenger vessels. This proposed rule is necessary to provide designated anchorage grounds outside the harbor thereby allowing safe and secure anchorage for an increasing number of large passenger vessels. This rule is intended to increase safety for vessels by enhancing voyage planning and by alerting other recreational and commercial vessels to potential anchorage locations for these large vessels.

DATES: Comments and related material must reach the Coast Guard on or before January 4, 2005.

ADDRESSES: You may mail comments and related material to Commanding Officer, Coast Guard Marine Safety Office/Group Los Angeles-Long Beach, 1001 South Seaside Avenue, Building 20, San Pedro, California 90731. The Port Operations Department maintains the public docket for this rulemaking. Comments and material received from the public, as well as documents indicated in this preamble as being available in the docket, will become part of this docket and will be available for inspection or copying at Marine Safety Office/Group Los Angeles-Long Beach, 1001 South Seaside Avenue, Building 20, San Pedro, California, 90731, between 8 a.m. and 4 p.m., Monday through Friday, except Federal holidays.

FOR FURTHER INFORMATION CONTACT: Lieutenant Ryan Manning, USCG, Chief of Waterways Management Division, at (310) 732-2020.

SUPPLEMENTARY INFORMATION:

Request for Comments

We encourage you to participate in this rulemaking by submitting comments and related material. If you do so, please include your name and address, identify the docket number for this rulemaking (CGD11-04-006), indicate the specific section of this document to which each comment applies, and give the reason for each comment. Please submit all comments and related material in an unbound format, no larger than 8½ by 11 inches, suitable for copying. If you would like to know they reached us, please enclose a stamped, self-addressed postcard or envelope. We will consider all comments and material received during the comment period. We may change this proposed rule in view of them.

Public Meeting

We do not now plan to hold a public meeting. But you may submit a request for a meeting by writing to the Marine Safety Office/Group Los Angeles-Long Beach at the address under ADDRESSES explaining why one would be beneficial. If we determine that one would aid this rulemaking, we will hold one at a time and place announced by a later notice in the Federal Register.

Background and Purpose

Large passenger vessels calling on Avalon, Santa Catalina Island, are forced to anchor offshore due to limited docking capabilities in Avalon Harbor. While these vessels have been anchoring in this location for over 15 years, there has never been a designated anchorage area or annotation on the NOAA chart to indicate these activities. However, with the increase in large passenger vessel operations in Southern California and multiple ships visiting Avalon Harbor on the same day, it is becoming apparent that designated anchorage areas are needed to ensure the safety and security of these vessels. In developing the proposed rule, the Coast Guard consulted various owners and masters of the large passenger vessels currently calling on Avalon Harbor.

Designated anchorages and the subsequent chart annotations will help ensure recreational and commercial boaters are aware that large passenger vessels may be anchored in these locations. This will be most helpful in conditions of low visibility.

Discussion of Proposed Rule

The proposed rule will establish three anchorage areas in which large passenger vessels calling on Avalon, Santa Catalina Island will be able to anchor safely. The locations of the anchorage grounds discussed in this proposed rule are within the same area that the large passenger vessels currently anchor. The proposed anchorage positions were chosen due to the rapid increase in water depth within close proximity to Santa Catalina Island. This increased depth of water does not allow for safe anchoring of the passenger vessels at distances further offshore than the proposed positions.

We propose to establish these anchorages due to the increase in large passenger vessel operations in this area, the need to maintain positive control in the event of increased security posture, and for the safety of other vessels operating in Avalon Bay. The proposed anchorage areas are of sufficient size to allow up to three large passenger vessels to anchor and still maintain safe navigation fairways available for other vessels to proceed to and from Avalon Harbor. The proposed regulation does not intend to exclude fishing activity or the transit of vessels in the anchorage areas. However, the Coast Guard does intend to advise boaters to proceed with caution in order to minimize the disruption that large wakes can cause during the transfer of passengers between the passenger vessels and ferries.

Regulatory Evaluation

This proposed rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

We expect the economic impact of this proposed rule to be so minimal that a full Regulatory Evaluation under the regulatory policies and procedures of DHS is unnecessary. This conclusion is based upon the fact that there would be no fees, permits, or specialized requirements for the maritime industry to utilize these anchorage areas. The regulation is solely for the purpose of advancing the safety of maritime commerce and navigation.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities. This rule would possibly affect the following entities, some of which may be small entities: The owners and operators of private and commercial vessels intending to transit or anchor in the affected area. The impact to these entities would not, however, be significant since this zone would encompass only a small portion of the waterway and vessels could safely navigate around the anchored vessels. Additionally, large passenger vessels already routinely anchor within the proposed anchorage areas.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please contact Lieutenant Ryan Manning, Chief of Waterways Management Division, at (310) 732-2020.

Collection of Information

This proposed rule would call for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such an expenditure, we do discuss the effects of this rule elsewhere in this preamble.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that might disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

Environment

We have analyzed this proposed rule under Commandant Instruction M16475.lD, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (34)(f), of the Instruction, from further environmental documentation because we are proposing to create an anchorage area.

A draft “Environmental Analysis Check List” and a draft “Categorical Exclusion Determination” are available in the docket where indicated under ADDRESSES. Comments on this section will be considered before we make the final decision on whether the rule should be categorically excluded from further environmental review.

List of Subjects in 33 CFR Part 110

Anchorage grounds.

For the reasons discussed in the preamble, the Coast Guard proposes to amend 33 CFR part 110 as follows:

PART 110—ANCHORAGE REGULATIONS

1. The authority citation for part 110 continues to read as follows:

Authority: 33 U.S.C. 471, 1221 through 1236, 2030, 2035, and 2071; 33 CFR 1.05-1(g); Department of Homeland Security Delegation No. 0170.1.

2. In § 110.216 add new paragraphs (a)(3) and (b)(6) to read as follows:

§ 110.216 Pacific Ocean at Santa Catalina Island, Calif.

(a) * * *

(3) Avalon Bay. (i) Anchorage A. The waters within an area described as follows: A circle of 1350 feet radius centered at latitude 33°20′59.0″ N., longitude 118°18′56.2″ W.

(ii) Anchorage B. The waters within an area described as follows: A circle of 1350 feet radius centered at latitude 33°20′38.3″ N., longitude 118°18′35.8″ W.

(iii) Anchorage C. The waters within an area described as follows: A circle of 1350 feet radius centered at latitude 33°21′21.0″ N., longitude 118°19′16.7″ W.

(b) * * *

(6) The Avalon Bay anchorage is reserved for large passenger vessels of over 1600 gross tons, unless otherwise authorized by the Captain of the Port Los Angeles-Long Beach.

Dated: October 25, 2004.
Kevin J. Eldridge,
Rear Admiral, U.S. Coast Guard, Commander, Eleventh Coast Guard District.

[FR Doc. 04-24685 Filed 11-4-04; 8:45 am]

BILLING CODE 4910-15-P